NATIONAL SCIENCE FOUNDATION

Notice of Intent to Seek Approval to Establish an Information Collection

AGENCY: National Science Foundation.

ACTION: Notice and request for comments.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by August 9, 2004 to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., eastern time, Monday through Friday. You also may obtain a copy of the data collection instrument and instructions from Ms. Plimpton.

SUPPLEMENTARY INFORMATION: Title of Collection:

OMB Number: 3145-New.

Expiration Date of Approval: Not applicable.

Type of Request: Intent to seek approval to establish an information collection.

Abstract:

Proposed Project:

The Science of Learning Centers (SLC) Program offers awards for large-scale, long term Centers that will extend the frontiers of knowledge on the science of learning, and create the intellectual, organizational and physical infrastructure needed for the long-term advancement of learning research. Support for these Centers is approximately 5 million/yr for 5 years, renewable for up to 10 years maximum. The goals of the Science of Learning Centers (SLC) Program are to advance the frontiers of all the science of learning through integrated research, to connect the research to specific scientific, technological, educational and workforce challenges; and to enable research communities to capitalize on new opportunities and discoveries and to respond to new challenges.

The SLC Program emerges from the intersections of diverse disciplines across the biological, cognitive, computational, mathematical, physical and social sciences, engineering and education. Thus the SLC Centers build intellectual and physical infrastructure within and between disciplines. Through creative integration of theoretical and empirical work, innovative models of research and dissemination of knowledge, and inventive uses of technology, the SLC Centers represent our nation's best investments to advance our understanding of what learning is, and how it is affected at all levels. Such advances in fundamental knowledge in the science of learning will have broad and significant societal impact.

World-class research is conducted at SLCs through a variety of partnerships, including: Academic institutions, national laboratories, industrial organizations, and/or other public/private entities. While they build on strong foundations of existing knowledge and expertise, each also has inherent risks associated with new directions, innovation, and the complexities of interdisciplinary, large scale collaborations.

SLCs enable and foster excellent education, integrate research and education, and create bonds between learning and inquiry so that discovery and creativity more fully support the learning process. SLCs capitalize on diversity through participation in center activities and demonstrate leadership in the involvement of groups underrepresented in science and engineering.

Centers selected will be required to submit annual reports on progress and plans, which will be used as a basis for performance review and for determining continuance of funding and the level of continued funding. To support this review and the management of a Center, SLCs will be required to develop a set of management and performance indicators for submission annually to NSF via an NSF evaluation technical assistance contractor. These indicators are both quantitative and descriptive and may include, for example, the characteristics of center personnel and students; sources of financial support and in-kind support; expenditures by operational component; characteristics of industrial and/or other sector participation; research activities; education activities; knowledge transfer activities; patents, licenses; publications; degrees granted to students involved in Center activities; descriptions of significant advances and other outcomes of the SLC effort. Part of this reporting will take the form of a database which will be owned by the institution and eventually made available to an evaluation contractor. This database will capture specific information to demonstrate progress towards achieving the goals of the program. Such reporting requirements will be included in the cooperative agreement which is binding between the academic institution and the NSF.

Each Center's annual report will address the following categories of activities: (1) Research, (2) integration of research and education, (3) knowledge dissemination, (4) partnerships, (5) diversity, (6) management (7) Evaluation/Assessment and (8) budget issues. For each of the categories the report will describe overall objectives for the year, problems the Center has encountered in making progress towards goals and how they are being resolved, anticipated problems in the following year and how they will be mitigated, and specific outputs and outcomes.

Use of the Information: NSF will use the information to continue funding of the Centers, and to evaluate the progress of the program.

Estimate of Burden: In the first year, for the anticipated six centers' awards time estimate is total of 600 hours. In the subsequent years time estimate is 300 hours.

Respondents: Non-profit institutions; federal government.

Estimated Number of Responses per Report: One from each of the six centers.

Comments: Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: June 7, 2004.
Suzanne H. Plimpton,
Reports Clearance Officer, National Science Foundation.

[FR Doc. 04-13115 Filed 6-9-04; 8:45 am]

BILLING CODE 7555-01-M